DEPARTMENT OF HEALTH AND HUMAN SERVICES

Food and Drug Administration

[Docket No. FDA-2007-P-0300] (formerly 2007P-0326)

Determination That SANOREX (Mazindol) Tablets 1 and 2 Milligrams Were Not Withdrawn From Sale for Reasons of Safety or Effectiveness; Correction

AGENCY: Food and Drug Administration. HHS.

ACTION: Notice; correction.

SUMMARY: The Food and Drug Administration is correcting a notice that appeared in the Federal Register of July 15, 2008 (73 FR 40582). The document announced the determination that SANOREX (mazindol) Tablets, 1 and 2 milligrams (mg), were not withdrawn from sale for reasons of safety or effectiveness. The document was published with an incorrect docket number. This document corrects that error.

FOR FURTHER INFORMATION CONTACT: Joyce Strong, Office of Policy and Planning (HF-27), Food and Drug Administration, 5600 Fishers Lane, Rockville, MD 20857, 301-827-7010.

SUPPLEMENTARY INFORMATION: In FR Doc. E8-15998, appearing on page 40582 in the Federal Register of Tuesday, July 15, 2008, the following correction is made:

1. On page 40582, in the third column, in the headings section of the document, “[Docket No. FDA-2007-P-0326]” is corrected to read “[Docket No. FDA-2007-P-0300] (formerly 2007P-0326)”.

Dated: July 22, 2008.
Jeffrey Shuren,
Associate Commissioner for Policy and Planning.

[FR Doc. E8-17303 Filed 7-28-08; 8:45 am]

BILLING CODE 4160-01-S